DEPARTMENT OF JUSTICE

Notice of Lodging of Consent Decree Under the Comprehensive Environmental Response, Compensation and Liability Act and the Resource Conservation and Recovery Act

Notice is hereby given that on March 31, 2008, a proposed Consent Decree (“Consent Decree”) in United States v. T.L. Diamond & Co., Inc. et al., Civil Action No. 08-3079 was lodged with the United States District Court for the Central District of Illinois.

In this action the United States sought, pursuant to section 107(a) of the Comprehensive Environmental Response, Compensation, and Liability Act (“CERCLA”), 42 U.S.C. 9607(a), the recovery of response costs from T.L. Diamond & Co., Inc. (“TLD”) and Mr. Theodore L. Diamond (“Mr. Diamond”), the President of TLD (collectively the “Settling Defendants”) incurred or to be incurred by the United States for response activities undertaken in response to the release and threatened release of hazardous substances from a facility located in the City of Hillsboro, Montgomery County, Illinois, known as the Eagle Zinc Superfund Site (the “Site”). The Consent Decree requires the Settling Defendants collectively to pay $750,000 in reimbursement of response costs at the Site. The Consent Decree further requires TLD to provide access to the Site and to agree to an restrictive environmental covenant on the Site. The Consent Decree includes a covenant not to sue under sections 106 and 107 of CERCLA and under section 7003 of the Resource Conservation and Recovery Act (“RCRA”), 42 U.S.C. 6973.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to in United States v. T.L. Diamond & Co., Inc. et al., D.J. Ref. 90-11-3-08502. Commenters may request an opportunity for a public meeting in the affected area, in accordance with section 7003(d) of RCRA, 42 U.S.C. 6973(d).

The Consent Decree may be examined at the Office of the United States Attorney for the Central District of Illinois, 318 South 6th Street, Springfield, IL 62701, and at U.S. EPA Region 5, 77 West Jackson Blvd., Chicago, Illinois 60604. During the public comment period the Consent Decree, may also be examined on the following Department of Justice website, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.25 (25 cents per page reproduction cost) payable to the U.S. Treasury or, if by e-mail or fax, forward a check in that amount to the Consent Decree Library at the stated address.

William D. Brighton,
Assistant Chief, Environmental Enforcement Section, Environment and Natural Resources Division.

[FR Doc. E8-7686 Filed 4-10-08; 8:45 am]

BILLING CODE 4410-15-P